DEPARTMENT OF JUSTICE

National Institute of Corrections

Solicitation for a Cooperative Agreement—The Prison Rape Elimination Act (PREA) Technical Assistance Project

AGENCY: National Institute of Corrections, Department of Justice.

ACTION: Solicitation for a cooperative agreement.

SUMMARY: The National Institute of Corrections (NIC) is soliciting proposals from organizations, groups, or individuals to enter into a cooperative agreement for a 12-month period to begin in February 2010. Section 5 of the Prison Rape Elimination Act (PREA) requires NIC to provide “training and education programs for Federal, State, and local authorities responsible for the prevention, investigation, and punishment of instances of prison rape.” NIC's technical assistance program is used to provide much of this training and education. Work under this cooperative agreement award will continue the technical assistance component of NIC's PREA Initiative.

The role of an NIC technical assistance provider is to help agencies improve operations, services, and programs. NIC funded PREA assistance builds the requester's capacity to accomplish a task or set of tasks related to addressing sexual violence and abuse in correctional settings. The assistance can range from simple delivery of information about PREA to more complex organizational reviews, assessments, and accompanying recommendations.

It is anticipated that technical assistance requests will be considered from state and local agencies charged with housing and/or supervising detained and sentenced offenders, and various Federal agencies with detention, correctional, and supervision responsibilities. Requests for PREA assistance will be submitted directly to NIC. The PREA Initiative Project Manager will review, approve, and forward the requests to the recipient of the cooperative agreement award. Although assistance provided under this award will focus on issues of inmate on inmate and staff on inmate sexual abuse and violence, NIC has other programs and initiatives that may be considered in the overall response to the request. As appropriate, the Project Manager will consult with other NIC staff regarding strategies, programs, services, or products that might also assist the requester. The Project Manager will provide initial and general guidance regarding the type of response to be provided, and may participate in early discussions with the awardee and representatives from the requesting agency to further refine the assistance response.

The applicant will submit an initial protocol that will outline the basic tasks and sub-tasks to be completed in providing technical assistance. Guidance on what should be included can be found under Supplementary Information. In addition, the applicant should include a communications plan which describes notifications, updates, and approvals between the requester, the recipient, and the NIC Project Manager. After the award is made, this protocol will be further refined as necessary and approved by NIC.

DATES: Applications must be received by 4 p.m. EDT on Monday, January 4, 2010.

ADDRESSES: Mailed applications must be sent to Director, National Institute of Corrections, 320 First Street, NW., Room 5007, Washington, DC 20534. Applicants are encouraged to use Federal Express, UPS, or similar service to ensure delivery by the due date. Hand delivered applications should be brought to 500 First Street, NW., Washington, DC 20534. At the front desk, call (202) 307-3106, extension 0 for pickup. Faxed applications will not be accepted. The only electronic applications (preferred) that will be accepted must be submitted through http://www.grants.gov.

FOR FURTHER INFORMATION CONTACT: A copy of this announcement and a link to the required application forms can also be downloaded from the NIC Web site at http://www.nicic.gov.

All technical or programmatic questions concerning this announcement should be directed to Dee Halley, CPS, Research and Evaluation Division, National Institute of Corrections.

She can be reached by calling 1-800-995-6423 ext 40374 or by e-mail at dhalley@bop.gov. Questions will be accepted until one week prior to the application due date. At this time responses to the questions will be posted on the NIC Web site.

SUPPLEMENTARY INFORMATION:

Protocol Elements

The applicant should design and submit an initial protocol which will guide the provision of technical assistance. The protocol should define the basic types of assistance to be provided (information delivery, training, etc.) and include time-frames, NIC approval points, and generally describe the following elements: (1) The development of the assistance response. A key developmental activity will be the identification of specific requester goals; (2) the identification of eligible providers and their assignment to specific technical assistance projects. Consideration should be given to an individual's areas of expertise and experience and/or experience with addressing issues of sexual misconduct, abuse, or violence in correctional settings; (3) the development of an assistance work plan for each project. The assistance plan should be as detailed as possible including dates, providers, activities related to preparation, onsite work, and report development and submission. In addition to hard copies, the report and all materials related to the project must be submitted in electronic form; (4) the structure and basic content to be included in technical assistance reports. The report should follow the guidelines set out in the “NIC Technical Assistance Policies for Technical Resource Providers” found on the NIC Web site at http://www.nicic.gov/TRP; (5) what in addition to the technical assistance will be forwarded to the requester and NIC. Project materials might include, but not be limited to, agendas, participant lists, briefing packages, lesson plans, hand-outs, correspondence, and agency materials reviewed by the providers. The number of staff briefed or trained during the event should be included in the report overview or summary; (6) how technical assistance projects will be evaluated and the results reported. The award recipient will conduct evaluations immediately following or shortly after the event. It is anticipated that NIC will conduct further evaluations of selected projects to determine the agency's progress toward achieving the goals articulated in the work plan.

Technical Assistance Guidance

Although requests and responses will frequently fall into specific groups or types, requests and responses may have unique elements. In addition to the guidance provided in the “NIC Technical Assistance Policies for Technical Resource Providers” and the “TA Provider Handbook” (http://www.nicic.gov/Downloads/PDF/Library/022876.pdf). the following provides further information on providing PREA assistance.

General Guidance

Requesters generally ask NIC to: Deliver information about PREA; Facilitate the development of broad strategies and initiatives to address PREA, and/or help design and plan systemic responses to specific issues such as policy development, prevention, classification and orientation, security and protection, medical and mental health treatment and follow up, staff training, reporting, investigations, prosecutions, and sanctions.

Requests for Information Dissemination

Although agencies began addressing PREA issues as early as 2004, many still request basic information about the law itself. These requests can often be addressed through referral to the NIC and other web-sites. Others require onsite work. Generally, requests for information dissemination should be evaluated against the following criteria. The presentation should be at least ½ day. Depending on the length and specific content to be covered, no more than two providers should be onsite. The potential audience for conference workshops should be reasonably large. In the case of agency briefings, the audience should consist of individuals who have the authority to influence or ensure systemic changes and/or set agency policy.

Requests for Training

NIC receives numerous requests for PREA training. Responding to these requests can significantly impact PREA assistance funds. Requests for training should be evaluated against the following criteria: Training should be designed to build capacity, (developing those who will train or educate others). Such assistance might help requesters determine training needs, develop training designs and curriculum, and prepare agency staff to train on topics regarding or related to sexual misconduct, abuse, and violence. Training provided to those responsible for designing procedures, and policy development and implementation is desirable. Generally, NIC funded trainers should not return to a site for repeat sessions, or deliver pre-service or ongoing, in-service training; when possible, funds approved for training requests should be used to develop strategies and products that can be used by correctional agencies nationwide. If this is possible, the requesting agency will be made aware of, and agree to this outcome.

Requests for Assessment and Intervention

Agencies may require and request assistance in assessing their overall operation and its vulnerability to incidents of sexual offenses between inmates, or between staff and inmates. Still others experiencing a specific problem or set of problems may request assistance in identifying the source, depth, and/or impact of the problem(s), and developing an effective response.

Occasionally an agency will request assistance that goes beyond an assessment and into intervention. These types of assistance may entail activities that take the provider out of the role of “advisor” and involve him or her significantly in the operations of the agency. Indicators of this type of intervention may be multiple site visits, visits which last for several days, and activities which engage the provider in internal agency difficulties or disputes. Such requests will be thoroughly reviewed and the responses carefully planned with input from the NIC leadership and the PREA Project Manager.

Project Goals

Under this cooperative agreement, the recipient of the award will: (1) Develop an initial and final protocol for the provision of technical assistance; (2) deliver the projected number of technical assistance projects, and; (3) deliver through quarterly reports (a) progress on meeting the project goals, and (b) an assessment of the field's progress in addressing PREA issues.

Required Expertise

Successful applicants should be able to demonstrate that they have the organizational capacity to carry out all of the project goals, experience in correctional policy and practice, and knowledge of PREA, the proposed standards forwarded by the National Prison Rape Elimination Commission to the U.S. Attorney General for consideration, and various strategies to address the issue of sexual violence and abuse in correctional settings.

Application Requirements: The application should be concisely written, typed double spaced and reference the “NIC Opportunity Number” and Title provided in this announcement. Please limit the program narrative text to 20 double spaced pages, exclusive of resumes (do not submit full curriculum vitae) and summaries of organizational experience. The application package must include: OMB Standard Form 424, Application for Federal Assistance, a cover letter that identifies the audit agency responsible for the applicant's financial accounts as well as the audit period or fiscal year that the applicant operates under (e.g., July 1 through June 30), a program narrative responding to the requirements in this announcement, a description of the qualifications of the applicant(s), an outline of projected costs, and the following forms: OMB Standard Form 424A, Budget Information—Non Construction Programs, OMB Standard Form 424B, Assurances—Non Construction Programs (these forms are available at grants.gov), DOJ/NIC Certification Regarding Lobbying; Debarment, Suspension and Other Responsibility Matters; and Drug-Free Workplace Requirements (available at http://www.nicic.gov/Downloads/PDF/certif-frm.pdf.). Additional Resources: Go to http://www.nicic.gov.

Applications may be submitted in hard copy, or electronically via http://www.grants.gov. If submitted in hard copy, there needs to be an original and three copies of the full proposal (program and budget narratives, application forms and assurances). The original should have the applicant's signature in blue ink.

Authority: Public Law 93-415.

Funds Available and Budget Considerations: Up to $150,000 is available for this project, but preference will be given to applicants who provide the most cost efficient solutions in accomplishing the scope of work. Determination will be made based on best value to the Government, not necessarily the lowest bid. Funds may only be used for the activities that are directly related to the project.

NIC will not specify the number of events to be completed. In developing the proposed budget, applicants should estimate the average cost for a technical assistance project, to include the number of providers, the overall number of fee days, airfares, and travel and miscellaneous expenses. The applicant should estimate the number of technical assistance projects to be completed.

This project will be a collaborative venture with the NIC Research and Evaluation Division.

Eligibility of Applicants: An eligible applicant is any public or private agency, educational institution, organization, individual or team with expertise in the described areas.

Review Considerations: Applications received under this announcement will be subject to the NIC Review Process. The criteria for the evaluation of each application will be as follows:

Programmatic (40%)

Is the required protocol (Goal 1) included and reflective of the applicants understanding of the project? Are all of the protocol elements present and sufficiently detailed to offer a clear understanding of how each of the tasks will be accomplished? Are Project Goals Two and Three adequately discussed?

Organizational (35%)

Do the skills, knowledge, and expertise of the organization and the proposed project staff demonstrate a high level of competency to carry out the tasks? Does the applicant organization have the necessary experience and organizational capacity to carry out all three goals of the project? Are the proposed project management and staffing plans realistic and sufficient to complete the projected number of technical assistance projects within the time frames proposed?

Project Management/Administration (25%)

Does the applicant identify reasonable objectives, milestones, and measures to track progress? If consultants and/or partnerships are proposed, is there a reasonable justification for their inclusion in the project and a clear structure to insure effective coordination? Is the proposed budget realistic, provide sufficient cost detail/narrative, and represent good value relative to the anticipated results?

Note: NIC will NOT award a cooperative agreement to an applicant who does not have a Dun and Bradstreet Database Universal Number (DUNS) and is not registered in the Central Contractor Registry (CCR).

A Duns number can be received at no cost by calling the dedicated toll-free DUNS number request line at 1-800-333-0505 (if you are a sole proprietor, you would dial 1-866-705-5711 and select option 1).

Registration in the CCR can be done online at the CCR Web site: http://www.ccr.gov. A CCR handbook and worksheet can also be reviewed at the Web site.

Number of Awards: One.

NIC Opportunity Number: 10PEI35. This number should appear as a reference line in the cover letter, where indicated on Standard Form 424, and outside of the envelope in which the application is sent.

Catalog of Federal Domestic Assistance Number: 16.603.

Executive Order 12372: This program is subject to the provisions of Executive Order 12372. E.O. 12372 allows states the option of setting up a system for reviewing applications from within their states for assistance under certain Federal programs. Applicants (other than Federally-recognized Indian tribal governments) should contact State Single Point of Contact (SPOC), a list of which can be found at http://www.whitehouse.gov/omb/grants/spoc.html.

Morris L. Thigpen,
Director, National Institute of Corrections.

[FR Doc. E9-29011 Filed 12-3-09; 8:45 am]

BILLING CODE 4410-36-P